DEPARTMENT OF ENERGY

Federal Energy Regulatory Commission

Combined Notice of Filings

Take notice that the Commission has received the following Natural Gas Pipeline Rate and Refund Report filings:

Docket Numbers: RP11-2051-000.

Applicants: Black Marlin Pipeline Company.

Description: Report of Black Marlin Pipeline Company.

Filed Date: 04/28/2011.

Accession Number: 20110428-5219.

Comment Date: 5 p.m. Eastern Time on Tuesday, May 10, 2011.

Docket Numbers: RP11-2052-000.

Applicants: Gulf South Pipeline Company, LP.

Description: Gulf South Pipeline Company, LP submits tariff filing per 154.204: Sequent 38585-1, 38586-1 Amendments to Negotiated Rate Agreements to be effective 5/1/2011.

Filed Date: 04/28/2011.

Accession Number: 20110428-5276

Comment Date: 5 p.m. Eastern Time on Tuesday, May 10, 2011.

Docket Numbers: RP11-2053-000.

Applicants: Midcontinent Express Pipeline LLC.

Description: Midcontinent Express Pipeline LLC submits tariff filing per 154.403(d)(2): Fuel Tracking Filing to be effective 6/1/2011.

Filed Date: 04/28/2011.

Accession Number: 20110428-5341.

Comment Date: 5 p.m. Eastern Time on Tuesday, May 10, 2011.

Docket Numbers: RP11-2054-000.

Applicants: Fayetteville Express Pipeline LLC.

Description: Fayetteville Express Pipeline LLC submits tariff filing per 154.403(d)(2): FEP 2011_04_28 Out of Cycle Fuel Filing to be effective 6/1/2011.

Filed Date: 04/28/2011.

Accession Number: 20110428-5343.

Comment Date: 5 p.m. Eastern Time on Tuesday, May 10, 2011.

Docket Numbers: RP11-2055-000.

Applicants: ETC Tiger Pipeline, LLC.

Description: ETC Tiger Pipeline, LLC submits tariff filing per 154.403(d)(2): ETC Tiger 2011_04_28 Out of Cycle Fuel Filing to be effective 6/1/2011.

Filed Date: 04/28/2011.

Accession Number: 20110428-5345.

Comment Date: 5 p.m. Eastern Time on Tuesday, May 10, 2011.

Docket Numbers: RP11-2056-000.

Applicants: Rockies Express Pipeline LLC.

Description: Rockies Express Pipeline LLC submits tariff filing per 154.204: Discounts on Negotiated Rates to be effective 6/1/2011.

Filed Date: 04/29/2011.

Accession Number: 20110429-5000.

Comment Date: 5 p.m. Eastern Time on Wednesday, May 11, 2011.

Docket Numbers: RP11-2057-000.

Applicants: ANR Pipeline Company.

Description: ANR Pipeline Company submits tariff filing per 154.403: Cash out Surcharge 2011 to be effective 6/1/2011.

Filed Date: 04/29/2011.

Accession Number: 20110429-5058.

Comment Date: 5 p.m. Eastern Time on Wednesday, May 11, 2011.

Docket Numbers: RP11-2058-000.

Applicants: National Fuel Gas Supply Corporation.

Description: National Fuel Gas Supply Corporation submits tariff filing per 154.204: IG Rate May 2011 to be effective 4/29/2011.

Filed Date: 04/29/2011.

Accession Number: 20110429-5064.

Comment Date: 5 p.m. Eastern Time on Wednesday, May 11, 2011.

Docket Numbers: RP11-2059-000.

Applicants: Kinder Morgan Interstate Gas Transmission LLC.

Description: Kinder Morgan Interstate Gas Transmission LLC submits tariff filing per 154.204: Service Agreements Cleanup Filing to be effective 5/16/2011.

Filed Date: 04/29/2011.

Accession Number: 20110429-5122.

Comment Date: 5 p.m. Eastern Time on Wednesday, May 11, 2011.

Docket Numbers: RP11-2060-000.

Applicants: Texas Gas Transmission, LLC.

Description: Texas Gas Transmission, LLC submits tariff filing per 154.204: Cross Timbers Negotiated Rate Letter Agreements 31115, 31116 to be effective 5/1/2011.

Filed Date: 04/29/2011.

Accession Number: 20110429-5123.

Comment Date: 5 p.m. Eastern Time on Wednesday, May 11, 2011.

Docket Numbers: RP11-2061-000.

Applicants: Northern Natural Gas Company.

Description: Northern Natural Gas Company submits tariff filing per 154.403: 20110429 Winter Market Fuel to be effective 11/1/2011.

Filed Date: 04/29/2011.

Accession Number: 20110429-5125.

Comment Date: 5 p.m. Eastern Time on Wednesday, May 11, 2011.

Docket Numbers: RP11-2062-000.

Applicants: Williston Basin Interstate Pipeline Company.

Description: Williston Basin Interstate Pipeline Company submits tariff filing per 154.204: System Maps to be effective 4/29/2011.

Filed Date: 04/29/2011.

Accession Number: 20110429-5131.

Comment Date: 5 p.m. Eastern Time on Wednesday, May 11, 2011.

Docket Numbers: RP11-2063-000.

Applicants: Southeast Supply Header, LLC.

Description: Southeast Supply Header, LLC submits tariff filing per 154.204: 2011 Map Filing to be effective 6/1/2011.

Filed Date: 04/29/2011.

Accession Number: 20110429-5134.

Comment Date: 5 p.m. Eastern Time on Wednesday, May 11, 2011.

Docket Numbers: RP11-2064-000.

Applicants: Steckman Ridge, LP.

Description: Steckman Ridge, LP submits tariff filing per 154.204: 2011 Map Filing to be effective 6/1/2011.

Filed Date: 04/29/2011.

Accession Number: 20110429-5139.

Comment Date: 5 p.m. Eastern Time on Wednesday, May 11, 2011.

Docket Numbers: RP11-2065-000.

Applicants: Algonquin Gas Transmission, LLC.

Description: Algonquin Gas Transmission, LLC submits tariff filing per 154.204: J-2 Lateral Revised Recourse and Negotiated Rates to be effective 5/17/2010.

Filed Date: 04/29/2011.

Accession Number: 20110429-5154.

Comment Date: 5 p.m. Eastern Time on Wednesday, May 11, 2011.

Docket Numbers: RP11-2066-000.

Applicants: Tennessee Gas Pipeline Company.

Description: Tennessee Gas Pipeline Company submits tariff filing per 154.403(d)(2): Fuel Tracker to be effective 6/1/2011.

Filed Date: 04/29/2011.

Accession Number: 20110429-5159.

Comment Date: 5 p.m. Eastern Time on Wednesday, May 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: April 29, 2011.
Nathaniel J. Davis, Sr.,
Deputy Secretary.

[FR Doc. 2011-12887 Filed 5-24-11; 8:45 am]

BILLING CODE 6717-01-P